DEPARTMENT OF HOMELAND SECURITY

Coast Guard

[Docket No. USCG-2016-0031]

Chemical Transportation Advisory Committee Meeting

AGENCY: Coast Guard, DHS.

ACTION: Notice of Federal advisory committee meeting.

SUMMARY: The Chemical Transportation Advisory Committee and its subcommittees will meet on March 1, 2, and 3, 2016, in Houston, TX, to discuss the safe and secure marine transportation of hazardous materials. The meetings will be open to the public.

DATES: Subcommittees will meet on Tuesday, March 1, 2016, from 9:00 a.m. to 5 p.m. and on Wednesday, March 2, 2016, from 9:00 a.m. to 5 p.m. The full committee will meet on Thursday, March 3, 2016, from 9:00 a.m. to 5 p.m. Please note that these meetings may close early if the Committee has completed its business.

ADDRESSES: The meetings will be held at the U.S. Coast Guard Sector Houston-Galveston, 13411 Hillard St. Houston, TX 77034. Foreign national attendees will be required to pre-register no later than 5 p.m. on February 12, 2016, to be admitted to the meeting. U.S. Citizen attendees will be required to pre-register no later than 5 p.m. on February 19, 2016, to be admitted to the meeting. To pre-register contact Lieutenant Cristina Nelson at Cristina.E.Nelson@uscg.mil with CTAC in the subject line and provide your name, company, and telephone number; if a foreign national, also provide your country of citizenship, and passport number and expiration date. All attendees will be required to provide government-issued picture identification in order to gain admittance to the building.

For information on facilities or services for individuals with disabilities or to request special assistance at the meeting, contact the individual listed in the FOR FURTHER INFORMATION CONTACT as soon as possible.

To facilitate public participation, we are inviting public comment on the issues to be considered by the Committee as listed in the “Agenda” section below. Written comments for distribution to Committee members must be submitted no later than February 12, 2016 if you want the Committee members to be able to review your comments before the meeting, and must be identified by USCG-2016-0031. Written comments may be submitted using the Federal eRulemaking Portal: http://www.regulations.gov. If your material cannot be submitted using http://www.regulations.gov, contact the person in the FOR FURTHER INFORMATION CONTACT section of this notice for alternate instructions.

Instructions: All submissions received must include the words “Department of Homeland Security” and the docket number for this action. Comments received will be posted without alteration at http://www.regulations.gov, including any personal information provided. You may review a Privacy Act notice regarding the Federal Docket Management System in the March 24, 2005, issue of the Federal Register (70 FR 15086).

Docket: For access to the docket to read documents or comments related to this notice, go to http://www.regulations.gov, type USCG-2016-0031 in the Search box, press Enter, and then click on the item you wish to view.

FOR FURTHER INFORMATION CONTACT: Commander Evan Hudspeth, Designated Federal Official of the Chemical Transportation Advisory Committee, 2703 Martin Luther King Jr. Ave. SE., Stop 7509, Washington, DC 20593-7509, telephone 202-372-1420, fax 202-372-8380, or Evan.D.Hudspeth@uscg.mil.

SUPPLEMENTARY INFORMATION: Notice of this meeting is given under the Federal Advisory Committee Act, 5 United States Code Appendix.

The Chemical Transportation Advisory Committee is an advisory committee authorized under section 871 of the Homeland Security Act of 2002, 6 United States Code 451, and is chartered under the provisions of the Federal Advisory Committee Act. The committee acts solely in an advisory capacity to the Secretary of the Department of Homeland Security through the Commandant of the Coast Guard and the Deputy Commandant for Operations on matters relating to safe and secure marine transportation of hazardous materials activities insofar as they relate to matters within the United States Coast Guard's jurisdiction. The Committee advises, consults with, and makes recommendations reflecting its independent judgment to the Secretary.

Agendas of Meetings

Subcommittee Meetings on March 1 and 2, 2016

The subcommittee meetings will separately address the following tasks:

(1) Task Statement 13-06: Harmonization of Response and Carriage Requirement for Oil-Like Substances, including Biofuels and Biofuel Blends.

(2) Task Statement 13-03: Safety Standards for the Design of Vessels Carrying Natural Gas or Using Natural Gas as Fuel.

(3) Task Statement 13-07: Recommendations for Safety Standards for Ship to Ship Transfer of Hazardous Material Outside of the Baseline.

(4) Task Statement 13-01: Recommendations for Guidance on the Implementation of Revisions to MARPOL Annex II and the International Code for the Construction and Equipment of Ships Carrying Dangerous Chemicals in Bulk (commonly known as IBC code) and 46 CFR 153 Regulatory Review.

(5) Task Statement 13-04: Improve Implementation and education of discharge requirements related to solid bulk cargo residues.

(6) Task Statement 15-01: Marine Vapor Control System (VCS) Certifying Entities (CE) Guidelines update and VCS supplementary guidance for the implementation of the final rule.

The task statements from the last committee meeting are located at Homeport at the following address: https://homeport.uscg.mil. Go to: Missions > Ports and Waterways > Safety Advisory Committees > CTAC Subcommittees and Working Groups.

The agenda for each subcommittee will include the following:

1. Review task statements, which are listed in paragraph (4) of the agenda for the March 3, 2016, meeting.

2. Work on tasks assigned in task statements mentioned above.

3. Public comment period.

4. Discuss and prepare proposed recommendations for the Chemical Transportation Advisory Committee meeting on March 3, 2016, on tasks assigned in detailed task statements mentioned above.

Full Committee Meeting on March 3, 2016

The agenda for the Chemical Transportation Advisory Committee meeting on March 3, 2016, is as follows:

1. Introductions and opening remarks.

2. Swear in newly appointed Committee members.

3. Coast Guard Leadership Remarks.

4. Public comment period.

5. Committee will review, discuss, and formulate recommendations on the following items:

a. Task Statement 13-06: Harmonization of Response and Carriage Requirement for Oil-Like Substances, including Biofuels and Biofuel Blends.

b. Task Statement 13-03: Safety Standards for the Design of Vessels Carrying Natural Gas or Using Natural Gas as Fuel.

c. Task Statement 13-07: Recommendations for Safety Standards for Ship to Ship Transfer of Hazardous Material Outside of the Baseline.

d. Task Statement 13-01: Recommendations for Guidance on the Implementation of Revisions to MARPOL Annex II and the International Code for the Construction and Equipment of Ships Carrying Dangerous Chemicals in Bulk (commonly known as the IBC Code) and 46 CFR part 153 Regulatory Review.

e. Task Statement 13-04: Improve implementation and education of discharge requirements related to solid bulk cargo residues.

f. Task Statement 15-01: Marine Vapor Control System (VCS) Certifying Entities (CE) Guidelines update and VCS supplementary guidance for the implementation of the final rule.

6. USCG presentations on the following items of interest:

a. Update on International Maritime Organization activities as they relate to the marine transportation of hazardous materials.

b. Update on U.S. regulations and policy initiatives as they relate to the marine transportation of hazardous materials.

7. Set next meeting date and location.

8. Set subcommittee meeting schedule.

A public comment period will be held during each Subcommittee and the full committee meeting concerning matters being discussed. Public comments will be limited to 3 minutes per speaker. Please note that the public comment period may end before the time indicated, following the last call for comments. Please contact Commander Evan Hudspeth, listed in the FOR FURTHER INFORMATION CONTACT section, to register as a speaker.

Dated: February 1, 2016.
J.G. Lantz,
Director of Commercial Regulations and Standards, United States Coast Guard.

[FR Doc. 2016-02126 Filed 2-3-16; 8:45 am]

BILLING CODE 9110-04-P